DEPARTMENT OF COMMERCE

National Oceanic and Atmospheric Administration

50 CFR Parts 229, 600, and 635

[Docket No. 080519678-8685-01]

RIN 0648-AW65

Atlantic Highly Migratory Species; Atlantic Shark Management Measures; Amendment 3

AGENCY: National Marine Fisheries Service (NMFS), National Oceanic and Atmospheric Administration (NOAA), Commerce.

ACTION: Proposed rule; extension of comment period.

SUMMARY: In order to provide additional opportunities for the public, all five Atlantic Regional Fishery Management Councils, the Atlantic and Gulf States Marine Fisheries Commissions, and other interested parties to comment on the proposed rule for draft Amendment 3 to the 2006 Consolidated Atlantic Highly Migratory Species (HMS) Fishery Management Plan (FMP), NMFS is extending the comment period for this action. On July 24, 2009, NMFS published the proposed rule for draft Amendment 3 to the 2006 Consolidated HMS FMP. In that proposed rule, the end of the comment period was announced as September 22, 2009, which would allow for a 60-day comment period on the proposed rule. NMFS is now extending the comment period until September 25, 2009 to accommodate two public hearings scheduled on September 22, 2009, and the New England Fishery Management Council meeting September 22 24, 2009. Comments received by NMFS on the proposed rule will help NMFS determine final management measures for small coastal sharks, shortfin mako sharks, and smooth dogfish as described in draft Amendment 3 to the Consolidated HMS FMP.

DATES: The deadline for comments on the proposed rule for draft Amendment 3 to the Consolidated HMS FMP has been extended from September 22, 2009, as published on July 24, 2009 (74 FR 36892), to 5 p.m. on September 25, 2009.

ADDRESSES: As published on July 24, 2009 (74 FR 36892), written comments on this action should be sent to Karyl Brewster-Geisz, Highly Migratory Species Management Division, by any of the following methods:

• Mail: 1315 East-West Highway, Silver Spring, MD 20910. Please mark the outside of the envelope “Shark Amendment 3 Comments.”

• Fax: (301) 713-1917.

• Electronic Submissions: Submit all electronic public comments via the Federal eRulemaking Portal http://www.regulations.gov.

Instructions: All comments received are a part of the public record and will generally be posted to Portal http://www.regulations.gov without change. All Personal Identifying Information (for example, name, address, etc.) voluntarily submitted by the commenter may be publicly accessible. Do not submit Confidential Business Information or otherwise sensitive or protected information.

NMFS will accept anonymous comments (enter “n/a” in the required fields if you wish to remain anonymous). Attachments to electronic comments will be accepted in Microsoft Word, Excel, WordPerfect, or Adobe PDF file formats only.

Copies of the draft Amendment 3 to the Consolidated HMS FMP, including the Draft Environmental Impact Statement, the latest shark stock assessments, and other documents relevant to this rule are available from the Highly Migratory Species Management Division website at www.nmfs.noaa.gov/sfa/hms or by contacting LeAnn Southward Hogan at 301-713-2347

.

FOR FURTHER INFORMATION CONTACT: Karyl Brewster-Geisz or LeAnn Southward Hogan at (301) 713-2347, or Jackie Wilson at (240) 338-3936.

SUPPLEMENTARY INFORMATION: The Atlantic shark fisheries are managed under the authority of the Magnuson-Stevens Fishery Conservation and Management Act (Magnuson-Stevens Act). The 2006 Consolidated HMS FMP is implemented by regulations at 50 CFR part 635.

On July 24, 2009 (74 FR 36892), NMFS published the proposed rule for draft Amendment 3 to the 2006 Consolidated HMS FMP, which proposes management measures to rebuild blacknose sharks, end overfishing of blacknose sharks and shortfin mako sharks, and add smooth dogfish under federal management. In that proposed rule, the end of the comment period was announced as September 22, 2009, which would allow for a 60-day comment period on the proposed rule. Due to the timing of two public hearings on September 22, 2009, and the need for NMFS to consult with the New England Fishery Management Council during their September 2009 meeting, NMFS is extending the comment period to provide additional opportunity for the public, all five Atlantic Regional Fishery Management Councils, the Atlantic and Gulf States Marine Fisheries Commissions, and other interested parties to comment on the proposed rule for draft Amendment 3 to the 2006 Consolidated HMS FMP.

These comments will assist NMFS in determining the final management measures to conserve and manage shark resources and fisheries, consistent with the Magnuson-Stevens Act and the 2006 Consolidated HMS FMP.

Authority: 5 U.S.C. 561 and 16 U.S.C. 1801 et seq.

Dated: August 3, 2009.
Alan D. Risenhoover,
Director, Office of Sustainable Fisheries, National Marine Fisheries Service.

[FR Doc. E9-19095 Filed 8-7-09; 8:45 am]

BILLING CODE 3510-22-S